DEPARTMENT OF DEFENSE

Office of the Secretary

Defense Innovation Board; Notice of Federal Advisory Committee Meeting

AGENCY: Office of the Under Secretary of Defense for Research and Engineering (USD(R&E)), Department of Defense (DoD).

ACTION: Notice of Federal Advisory Committee meeting.

SUMMARY: The DoD is publishing this notice to announce that the following Federal Advisory Committee meeting of the Defense Innovation Board (DIB) will take place.

DATES: Open to the public Wednesday, July 17th, 2024, from 10:30 a.m. to 12:00 p.m. Eastern Daylight Savings Time (EDST). Closed to the public Wednesday, July 17th, 2024, from 1:00 p.m. to 1:30 p.m. EDST.

ADDRESSES: The open and closed portions of the DIB public meeting on July 17th, 2024 will take place at the Pentagon in Washington, DC. The open portion will be accessible to the public virtually, via the Defense Visual Information Distribution Service (DVIDS).

FOR FURTHER INFORMATION CONTACT: Dr. Marina Theodotou, the DIB Designated Federal Officer (DFO) at (571) 372-7344 (voice) or marina.theodotou.civ@mail.mill. Mailing address is Defense Innovation Board, 4800 Mark Center Drive, Suite 15D08, Alexandria, VA 22350-3600. Website: https://innovation.defense.gov. The most up-to-date changes to the meeting agenda and link to the virtual meeting can be found on the website.

SUPPLEMENTARY INFORMATION: This meeting is being held under the provisions of chapter 10 of title 5, United States Code (U.S.C.) (commonly known as the “Federal Advisory Committee Act” or “FACA”); 5 U.S.C. 552b and 41 Code of Federal Regulations (CFR) 102-3.140 and 102-3.150.

Due to circumstances beyond the control of the DFO and the DoD, the DIB was unable to provide public notification required by 41 CFR 102-3.150(a) concerning its July 17, 2024 meeting. Accordingly, the Advisory Committee Management Officer for the DoD, pursuant to 41 CFR 102-3.150(b), waives the 15-calendar day notification requirement.

Purpose of Meeting: The mission of the DIB is to provide the Secretary of Defense (SecDef), the Deputy Secretary of Defense (DepSecDef), and the USD(R&E) independent advice and strategic insights on emerging and disruptive technologies and their impact on national security, adoption of commercial sector innovation best practices, and ways to leverage the U.S. innovation ecosystem to align structures, processes, and human capital practices to accelerate and scale innovation adoption, foster a culture of innovation and an experimentation mindset, and enable the DoD to build enduring advantages. The DIB focuses on innovation-related issues and topics raised by the SecDef, the DepSecDef, or the USD(R&E). The objective of this DIB meeting is to hear perspectives from invited speakers, announce to the public the key recommendations resulting from the current studies, and vote on the advice and recommendations to give to the Department. Additionally, the DIB Chair and members will announce the two new studies being undertaken in the continued efforts to advise the SecDef, DepSecDef, and USD(R&E) on scaling innovation.

Agenda: The DIB's open portion of the meeting will take place on July 17th, 2024, from 10:30 a.m. to 12:00 p.m. The DIB DFO, Dr. Marina Theodotou, will open the meeting and introduce the DIB Chair, Michael Bloomberg for his welcome and opening remarks. The DIB will present on current studies, discuss relevant innovation topics through conversation and insights from guest speakers, and vote on current studies and recommendations. Guest speakers have been confirmed to provide insights on current studies, as follows:

“Aligning Incentives to Drive Faster Tech Adoption”—A study focusing on how to ensure the workforce is incentivized to innovate and drive faster tech adoption to provide capabilities to the warfighter.

Alexis Bonnell, Chief Information Officer and Director of Digital Capabilities Directorate, Air Force Research Laboratory.

MAJ Michael Kanaan, Military Deputy Chief Information Officer, DoD Chief Digital and Artificial Intelligence Office.

“Optimizing How We Innovate with Our Allies and Partners”—A study focusing on the challenges and opportunities of optimization of the innovation processes implemented with Allies and Partners to strengthen the national security of the United States.

James Appathurai, The North Atlantic Treaty Organization Acting Assistant Secretary General, Innovation, Hybrid, and Cyber.

CAPT Colin Kane, Chief of Staff, Military Deputy, Joint Rapid Acquisition Cell. Following these briefs and DIB discussions, the DIB will deliberate and vote to adopt the advice and recommendations to give to the Department in the form of a report, followed by the DFO who will reference public comments received ahead of this meeting. The Chair will offer closing remarks, and the DFO will adjourn the open session.

The DIB will continue in a closed meeting from 1:00 p.m. to 1:30 p.m. during which the DIB members will discuss topics around unmanned systems both for attack and counterattack; matters relating to scaling innovative processes and procedures; issues relating to innovating with our Allies and Partners; and approaches to strengthen how the Department engages with Industry to drive faster tech adoption. The latest version of the agenda can be found on the DIB's website at innovation.defense.gov.

Meeting Accessibility: Pursuant to section 1009(a)(1) of the FACA and 41 CFR 1023.140 and 102-3.150, the meeting will be accessible to the public virtually on July 17th, 2024, from 10:30 a.m. to 12:00 p.m. Members of the public wishing to attend the open session virtually will be able to access the link via DVIDS and on the DIB website at innovation.defense.gov. In accordance with section 1009(d) of the FACA and 41 CFR 102-3.155, the DoD has determined that part of the DIB meeting will be closed to the public on July 17, 2024, from 1:00 p.m. to 1:30 p.m. Specifically, the USD(R&E), as the DIB Sponsor, in consultation with the DoD Office of General Counsel, has determined in writing that this portion of the meeting will be closed to the public because the DIB will consider matters covered by 5 U.S.C. 552b(c)(1). The determination is based on the classified nature of discussions related to national security. Such classified material is so intertwined with the unclassified material that it cannot reasonably be segregated into separate discussions without defeating the effectiveness and meaning of the overall meeting. To permit this portion of the meeting to be open to the public would preclude discussion of such matters and would greatly diminish the ultimate utility of the DIB's findings and recommendations to the SecDef and USD(R&E).

Written Statements: Pursuant to 41 CFR 102-3.105(l) and 102-3.140(a)(3) and section 1009(a)(3) of the FACA, the public or interested organizations may submit written comments or statements to the DIB in response to the stated agenda of the meeting or regarding the DIB's mission in general. Written comments or statements should be submitted to Dr. Marina Theodotou, the DFO, via email to osd.pentagon.ousd-r-e.mbx.dib2@mail.mil. Comments or statements must include the author's name, title or affiliation, address, and daytime phone number. The DFO must receive written comments or statements being submitted in response to the agenda set forth in this notice by 12:00 p.m. on Friday, July 12th, 2024, to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website.

Dated: July 3, 2024.
Aaron T. Siegel,
Alternate OSD Federal Register Liaison Officer, Department of Defense.

[FR Doc. 2024-15049 Filed 7-8-24; 8:45 am]

BILLING CODE 6001-FR-P